DEPARTMENT OF AGRICULTURE

Agricultural Marketing Service

[Docket No. TB-01-02]

Flue-Cured Tobacco Advisory Committee; Meeting

In accordance with the Federal Advisory Committee Act (5 U.S.C. App.) announcement is made of the following committee meeting:

Name: Flue-Cured Tobacco Advisory Committee.

Date: June 21, 2001.

Time: 9 a.m.

Place: United States Department of Agriculture, (USDA), Agricultural Marketing Service (AMS), Tobacco Programs, Flue-Cured Tobacco Cooperative Stabilization Corporation Building, Room 223, 1306 Annapolis Drive, Raleigh, North Carolina 27608.

Purpose: To elect officers, establish submarketing areas, recommend opening dates, discuss selling schedules, and other related matters for the 2001 flue-cured tobacco marketing season.

The meeting is open to the public. Persons, other than members, who wish to address the Committee at the meeting should contact John P. Duncan III, Deputy Administrator, Tobacco Programs, AMS, USDA, STOP 0280, 1400 Independence Avenue, SW., Room 502 Cotton Annex Building, Washington, DC 20250-0280, (202) 205-0567, prior to the meeting. Written statements may be submitted to the Committee before, at, or after the meeting. If you need any accommodations to participate in the meeting, please contact the Tobacco Programs at (202) 205-0567 by June 15, 2001, and inform us of your needs.

Dated: May 17, 2001
Kenneth C. Clayton,
Acting Administrator.

[FR Doc. 01-12936 Filed 5-22-01; 8:45 am]

BILLING CODE 3410-02-P